DEPARTMENT OF DEFENSE

Office of the Secretary

Defense Science Board; Notice of Federal Advisory Committee Meeting

AGENCY: Under Secretary of Defense for Research and Engineering, Department of Defense.

ACTION: Notice of Federal Advisory Committee meeting.

SUMMARY: The Department of Defense (DoD) is publishing this notice to announce that the following Federal Advisory Committee meeting of the Defense Science Board (DSB) will take place.

DATES: Closed to the public Wednesday, November 6, 2019 from 8:00 a.m. to 3:45 p.m. and Thursday, November 7, 2019 from 8:00 a.m. to 4:00 p.m.

ADDRESSES: The address of the closed meeting is the Nunn-Lugar Conference Room, 3E863 at the Pentagon, Washington, DC 20301.

FOR FURTHER INFORMATION CONTACT: Mr. Kevin Doxey, (703) 571-0081 (Voice), (703) 697-1860 (Facsimile), kevin.a.doxey.civ@mail.mil (email). Mailing address is Defense Science Board, 3140 Defense Pentagon, Room 3B888A, Washington, DC 20301-3140. Website: http://www.acq.osd.mil/dsb/. The most up-to-date changes to the meeting agenda can be found on the website.

SUPPLEMENTARY INFORMATION: Due to circumstances beyond the control of the Department of Defense and the Designated Federal Officer, the Defense Science Board was unable to provide public notification required by 41 CFR 102-3.150(a), concerning the meeting on November 6, 2019 and November 7, 2019 of the Defense Science Board. Accordingly, the Advisory Committee Management Officer for the Department of Defense, pursuant to 41 CFR 102-3.150(b), waives the 15-calendar day notification requirement.

This meeting is being held under the provisions of the Federal Advisory Committee Act (FACA) (Title 5 United States Code (U.S.C), Appendix), the Government in the Sunshine Act (5 U.S.C. 552b), and Title 41 Code of Federal Regulations (CFR) 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss classified current and future national security challenges within the DoD.

Agenda: The DSB Fall Quarterly Meeting will begin on November 6, 2019 at 8:00 a.m. with opening remarks by Mr. Kevin Doxey, the Designated Federal Officer, and Dr. Craig Fields, DSB Chairman. The first presentation will be from Mr. James Carlini and Mr. Mark Maybury, Co-Chairs of the DSB Task Force on Counter Autonomy, who will provide a classified brief on the Task Force on Counter Autonomy's findings and recommendations and engage in classified discussion with the DSB. The DSB will vote on the Task Force's findings and recommendations. Next, Dr. Michael Griffin and Dr. Lisa Porter will provide a classified brief on their view of the defense challenges and issues the DoD faces. Following break, Dr. Ruth David and Mr. Bill LaPlante, Co-Chairs of the DSB Task Force on Gaming, Exercising, Modeling, and Simulation (GEMS) will brief the DSB on the Task Force on GEMS's findings and recommendations and engage in classified discussion with the DSB. The DSB will vote on the Task Force's findings and recommendations. Next, General John Raymond, Commander of Air Force Space Command, will provide a classified brief on his view of the defense challenges and issues Air Force Space Command faces. Following break, Mr. Alan Shaffer, Deputy Under Secretary of Defense for Acquisition and Sustainment, will provide a classified brief on his view of the defense challenges and issues the DoD faces. The meeting will adjourn at 3:45 p.m.

On November 7, 2019, the meeting will begin at 8:00 a.m. with Mr. David Van Buren, Co-Chair of the DSB Task Force on Multi-Domain Effects, who will provide a classified briefing on the Task Force on Multi-Domain Effects' findings and recommendations and engage in classified discussion with the DSB. The DSB will vote on the Task Force's findings and recommendations. Next, Mr. Bob Nesbit and Dr. William Schneider, Co-Chairs of the DSB Task Force on Strengthening Counter Intelligence Capabilities Against the “Insider Threat,” will provide a classified briefing on the Task Force on Strengthening Counter Intelligence Capabilities Against the “Insider Threat” findings and recommendations and engage in classified discussion with the DSB. The DSB will vote on the Task Force's findings and recommendations. Following break, Dr. Christopher Scolese, Director of the National Reconnaissance Office, will provide a classified brief on view of the defense challenges and issues the NRO faces. The meeting will adjourn at 4:00 p.m.

Meeting Accessibility: In accordance with Section 10(d) of the FACA and 41 CFR 102-3.155, the DoD has determined that the DSB meeting will be closed to the public. Specifically, the Under Secretary of Defense (Research and Engineering), in consultation with the DoD Office of General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with Section 10(a)(3) of the FACA and 41 CFR 102-3.105(j) and 102-3.140, interested persons may submit a written statement for consideration by the DSB at any time regarding its mission or in response to the stated agenda of a planned meeting. Individuals submitting a written statement must submit their statement to the DSB DFO provided in the FOR FURTHER INFORMATION CONTACT section at any point; however, if a written statement is not received at least three calendar days prior to the meeting, which is the subject of this notice, then it may not be provided to or considered by the DSB until a later date.

Dated: October 28, 2019.
Aaron T. Siegel,
Alternate OSD Federal Register Liaison Officer, Department of Defense.

[FR Doc. 2019-23780 Filed 10-30-19; 8:45 am]

BILLING CODE 5001-06-P